DEPARTMENT OF COMMERCE

National Oceanic and Atmospheric Administration

Agency Information Collection Activities; Submission to the Office of Management and Budget (OMB) for Review and Approval; Comment Request; Type-Approval Requirements for Vessel Monitoring Systems (VMS)

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 14, 2023.

ADDRESSES: Interested persons are invited to submit written comments to Adrienne Thomas, NOAA PRA Officer, at NOAA.PRA@noaa.gov. Please reference OMB Control Number 0648-0789 in the subject line of your comments. Do not submit Confidential Business Information or otherwise sensitive or protected information.

FOR FURTHER INFORMATION CONTACT: Requests for additional information or specific questions related to collection activities should be directed to NOAA, Kelly Spalding, National VMS Program Manager, 1315 East West Hwy., Bldg. SSMC3, Rm. 3207, Silver Spring, MD 20910, 301-427-2300, kelly.spalding@noaa.gov.

SUPPLEMENTARY INFORMATION:

I. Abstract

This request is for extension of a currently approved information collection. The current Code of Federal Regulations (CFR) at title 50, part 600, subpart Q, sets forth the requirements for Enhanced Mobile Transceiver Units (EMTUs) to be type-approved by NMFS for use in federal fisheries programs. These EMTUs can either be satellite-linked systems or cellular-based hardware and software. Respondents for type-approval of vessel monitoring system (VMS) satellite- or cellular-based systems must submit a written type-approval request and electronic copies of supporting materials that include certain required information. The National Marine Fisheries Service (NMFS) Office of Law Enforcement (OLE) uses the information submitted to assess whether an EMTU or EMTU-C meets minimum technical specifications and can be approved for use in the NMFS VMS program. The information currently required to accompany an application for type-approval of VMS satellite-based systems is set forth at 50 CFR 600.1502 through 600.1507. The information required for type-approval of VMS cellular-based systems will be substantially similar and identical except where specifically indicated (e.g., EMTU-Cs will not be required to report the at-sea loss of communications signals, as proposed in 50 CFR 600.1503(e)(5)).

Information requested in the type-approval application for EMTU-Cs and EMTUs includes the information identified in 50 CFR 600, subpart Q, more specifically, 50 CFR 600.1501 through 600.1509. This identified information is also embodied in the Type-Approval Matrix form (available from NMFS OLE) that can be used by a respondent to more easily organize and submit the required information in their type-approval request to NMFS. The information will include information regarding: Characteristics of the EMTU-C or EMTU, Associated entities including manufacturer and sellers, Communication functionalities, Data formats, Data transmission details, Latency requirements, Messaging formats and transmission details, Electronic forms, Data security, Customer service, Durability, and Applicant's data handling requirements.

II. Method of Collection

Information will be collected electronically.

III. Data

OMB Control Number: 0648-0789.

Form Number(s): None.

Type of Review: Regular submission (extension of a current information collection).

Affected Public: Business or other for-profit organizations.

Estimated Number of Respondents: 4.

Estimated Time per Response: Completion of an initial application: 80 hours. Changes to an existing type-approval: 8 hours. Response to a type-approval revocation: 24 hours. Diagnostic and troubleshooting support (as per type-approval): 166 hours.

Estimated Total Annual Burden Hours: 9,458 hours.

Estimated Total Annual Cost to Public: $5,200.

Respondent's Obligation: Required to obtain or retain benefits.

Legal Authority: The Magnuson-Stevens Fishery Conservation and Management Act (Magnuson-Stevens Act) requires that the National Marine Fisheries Service (NMFS) and regional fishery management councils prevent overfishing and requires the collection of reliable data essential to the effective conservation, management, and scientific understanding of the nation's fishery resources, including vessel monitoring systems.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2023-02975 Filed 2-10-23; 8:45 am]

BILLING CODE 3510-22-P